DEPARTMENT OF COMMERCE

International Trade Administration

[C-475-819]

Final Results of Sunset Review: Countervailing Duty Order on Certain Pasta From Italy

AGENCY: Import Administration, International Trade Administration, Department of Commerce.

ACTION: Notice of Final Results of Expedited Sunset Review: Countervailing Duty Order on Certain Pasta from Italy.

SUMMARY: On June 1, 2001, the Department of Commerce (“the Department”) initiated a sunset review of the countervailing duty order on certain pasta (“pasta”) from Italy (66 FR 29771) pursuant to section 751(c) of the Tariff Act of 1930, as amended (“the Act”). On the basis of a notice of intent to participate and adequate substantive comments filed on behalf of the domestic interested parties, and inadequate response from respondent interested parties, we determined to conduct an expedited (120-day) sunset review of this countervailing duty order. Based on our analysis of the comments received, we find that revocation of the countervailing duty order would be likely to lead to continuation or recurrence of a countervailable subsidy. The net countervailable subsidy and the nature of the subsidy are identified in the Final Results of Review section of this notice.

EFFECTIVE DATE: October 10, 2001.

FOR FURTHER INFORMATION CONTACT: Martha V. Douthit or Carole A. Showers, Office of Policy for Import Administration, International Trade Administration, U.S. Department of Commerce, 14th Street and Constitution Avenue, NW., Washington, DC 20230; telephone: (202) 482-5050 or (202) 482-3330, respectively.

SUPPLEMENTARY INFORMATION:

Statute and Regulations

Unless otherwise indicated, all citations to the Act are references to the provisions effective January 1, 1995, the effective date of the amendments made to the Act by the Uruguay Round Agreement Act (“URAA”). The Department's procedures for the conduct of sunset reviews are set forth in Procedures for Conducting Five-year ( “Sunset”) Reviews of Antidumping and Countervailing Duty Orders, 63 FR 13516 (March 20, 1998) (“Sunset Regulations”), and in 19 CFR Part 351 (2000) in general. Guidance on methodological or analytical issues relevant to the Department's conduct of sunset reviews is set forth in the Department's Policy Bulletin 98:3 Policies Regarding the Conduct of Five-year (“Sunset”) Reviews of Antidumping and Countervailing Duty Orders; Policy Bulletin, 63 FR 18871 (April 16, 1998) (“Sunset Policy Bulletin”).

Scope of Order

Imports covered by this review are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this scope is typically sold in the retail market, in fiberboard or cardboard cartons, or polyethylene or polypropylene bags, of varying dimensions. Excluded from the scope of this order are refrigerated, frozen, or canned pastas, as well as all forms of egg pasta, with the exception of non-egg dry pasta containing up to two percent egg white. Also excluded are imports of organic pasta from Italy that are accompanied by the appropriate certificate issued by the Istituto Mediterraneo Di Certificazione (“IMC”), by Bioagricoop Scrl, by QC&I International Services, by Ecocert Italia, by the Conzorzio per il Controllo dei Prodotti Biologici, or by the Associazione Italiana per l'Agricoltura Biologica. The merchandise subject to this order is currently classifiable under item 1902.19.20 of the Harmonized Tariff Schedule of the United States (“HTSUS”). Although the HTSUS subheading is provided for convenience and customs purposes, the written description of the merchandise subject to the order is dispositive.

Scope Rulings

(1) On August 25, 1997, the Department issued a scope ruling that multicolored pasta, imported in kitchen display bottles of decorative glass that are sealed with cork or paraffin and bound with raffia, is excluded from the scope of the countervailing duty order. (See August 25, 1997 memorandum from Edward Easton to Richard Moreland, which is on file in Central Record Unit (“CRU”) in Room B-099 of the main Commerce building.)

(2) On July 30, 1998, the Department issued a scope ruling, finding that multipacks consisting of six one-pound packages of pasta that are shrink-wrapped into a single package are within the scope of the countervailing duty order. (See July 30, 1998 letter from Susan H. Kuhbach, Acting Deputy Assistant Secretary for Import Administration, to Barbara P. Sidari, Vice President, Joseph A. Sidari Company, Inc., which is on file in the CRU).

(3) On October 26, 1998, the Department self-initiated a scope inquiry to determine whether a package weighing over five pounds as a result of allowable industry tolerances may be within the scope of the countervailing duty order. On May 24, 1999, we issued a final scope ruling finding that, effective October 26, 1998, pasta in packages weighing or labeled up to (and including) five pounds four ounces is within the scope of the countervailing duty order. (See May 24, 1999 memorandum from John Brinkmann to Richard Moreland, which is on file in the CRU.

Background

On June 1, 2001, the Department initiated a sunset review of the countervailing duty order on pasta from Italy (66 FR 29771), pursuant to section 751(c) of the Act). The Department received a Notice of Intent to Participate on behalf of New World Pasta, American Italian Pasta Company, Borden Foods Corporation, and Dakota Growers Pasta Company (collectively, “the domestic interested parties”), on June 15, 2001, within the applicable deadline specified in section 351.218(d)(1)(i) of the Sunset Regulations. Pursuant to section 771(9)C) of the Act, the domestic interested parties claimed interested-party status as domestic producers of certain pasta. The domestic interested parties assert that most of them participated in the original investigation and the scope clarification proceeding.¹ The domestic interested parties are fully committed to full participation in this sunset review to preserve and maintain the countervailing duty order.² We received complete substantive response from the domestic interested parties on July 16, 2001, within the 30-day deadline specified in the Sunset Regulations under section 351.218(d)(3)(i).

¹ See Substantive Response by the Domestic Industry, Sunset Review of the Countervailing Duty Order on Certain Pasta from Italy, July 2, 2001, at 4.

² Id.

On June 29, 2001, we received a request for an extension to file substantive responses and rebuttal comments from the domestic interested parties.³

³ On June 29, 2001, the Department received a letter from the domestic interested parties regarding request for additional time to file substantive and rebuttal comment in this sunset review. On June 29, 2001, the Department granted the extension to the domestic parties and to all participants to file substantive and rebuttal comments. Pursuant to 19 CFR 351.302(b), the deadline for all parties for filing substantive responses was extended to July 16, 2001. Pursuant to 19 CFR 351.218(d)(4), the deadline for filing rebuttal comments was therefore extended to July 23, 2001 for all parties. In this case, no rebuttal briefs were filed.

On June 28, 2001, we received a response from the European Union Delegation of the European Commission (“EC”), expressing its willingness to participate in this review as the authority responsible for defending the interest of the Member States of the European Union (“EU”).⁴ We received also a response from the Government of Italy (“GOI”), on June 29, 2001 expressing its willingness to participate in this review as the government of a country in which the subject merchandise is produced and exported. On July 16, 2001 we received a complete response from interested parties, Rienzi & Sons, Inc. (“Rienzi”) an importer of pasta from Italy, and N. Puglisi & F. Industria Paste Alimentari S.p.A. (“Puglisi”) an Italian producer of pasta. Rienzi and Puglisi claim interested-party status pursuant to section 771(9)(A) of the Act. The GOI and the EU claim interested-party status in this sunset review pursuant to section 771(9)(B) of the Act.⁵

⁴ See June 28, 2001 Response of the EC.

⁵ See June 29, 2001 Response of the GOI.

On July 23, 2001, the Department determined that the response of the respondent interested parties in this review was inadequate.⁶ As a result, pursuant to 19 CFR 351.218(e)(2)(ii)(C), the Department determined to conduct an expedited, 120-day, review of the countervailing duty order on pasta from Italy.⁷

⁶ Section 351.218 (e)(1)(ii)(C)(2) provides that, where respondent interested parties provide inadequate response, the Department will conduct an expedited sunset review under section 751(c)(3)(B) of the Act and issue final results of review based on the facts available.

⁷ See July 23, 2001, Letter from Jeffrey A. May, Director, Office of Policy to Lynn Featherstone, Director, Office of Investigations, International Trade Commission, regarding Pasta from Italy: Expedited Sunset Reviews of Antidumping and Countervailing Duty Orders.

Analysis of Comments Received

All issues raised by parties to this sunset review are addressed in the Issues and Decision Memorandum (“Decision Memorandum”) from Jeffrey A. May, Director, Office of Policy, Import Administration, to Faryar Shirzad, Assistant Secretary for Import Administration, dated October 1, 2001, which is hereby adopted by this notice. The issues discussed in the Decision Memorandum include the likelihood of continuation or recurrence of dumping and the magnitude of the margins likely to prevail were the order to be revoked. Parties can find a complete discussion of all issues raised in these reviews and the corresponding recommendations in this public memorandum, which is on file in the Central Records Unit, room B-099, of the main Commerce building. In addition, a complete version of the Decision Memorandum can be accessed directly on the Web at http://ia.ita.doc.gov/frn, under the heading “October 2001.” The paper copy and electronic version of the Decision Memorandum are identical in content.

Final Results of Review

We determine that revocation of the countervailing duty order on pasta from Italy would likely lead to continuation or recurrence of a countervailable subsidy at the rates listed below:

Manufacturer/producer | Net countervailable subsidy
Agritalia, S.r.l | 3.03
Arrighi S.p.A. Industrie Alimentari | 2.92
De Matteis Agroalimentare S.p.A | 2.55
Delverde, S.r.l | 4.04
F.lli De Cecco di Filippo Fara S. Martino S.p.A | 3.47
Industria Alimentare Colavita, S.p.A | 2.08
Isola del Grano S.r.L | 11.71
Italpast S.p.A | 11.71
Italpasta S.r.L | 2.92
La Molisana Alimentari S.p.A., | 3.94
Labor S.r.L | 11.71
Molino e Pastificio De Cecco S.p.A. Pescara | 3.47
Pastificio Guido Ferrara | 1.41
Pastificio Campano, S.p.A | 2.54
Pastificio Riscossa F.lli Mastromauro S.r.L | 6.48
“All Other” Manufacturers/producers/exporters | 3.89
Barilla G.e R. F.lli S.p.A (“Barrilla”) and Gruppo Agricoltura Sana S.r.L. (“Gruppo”) are excluded the countervailing duty order on pasta from Italy.

Nature of Subsidies

In the Sunset Policy Bulletin, the Department states that, consistent with section 752(a)(6)of the Act, the Department will provide to the Commission information concerning the nature of the subsidy, and whether the subsidy is a subsidy described in Article 3 or Article 6.1 of the Subsidies Agreement. In this review we find that three of the programs included in the calculations of the net countervailable subsidy fall within the definition of an export subsidy under Article 3.1(a) of the Subsidies Agreement. They are: Export Marketing Grants Under Law 304/90, Remission of Taxes on Export Credit Insurance Under Article 33 of Law 227/77, and the Export Restitution Program. Furthermore, some or all of the programs at issue could be found to be inconsistent with Article 6.1. For example, the net countervailable subsidy may exceed five percent, as measured in accordance with Annex IV of the Subsidies Agreement. The Department, however, has no information with which to make such a calculation; nor do we believe it appropriate to attempt such a calculation in the course of a sunset review. Moreover, we note that, as of January 1, 2000, Article 6.1 has cease to apply (see Article 31 of the Subsidies Agreement). As such, we are providing the Commission with program descriptions in our Decision Memo.

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

This five-year (“sunset”) review and notice are in accordance with sections 751(c), 752, and 777(i)(1) of the Act.

Dated: October 1, 2001.
Joseph A. Spetrini,
Acting Assistant Secretary for Import Administration.

[FR Doc. 01-25407 Filed 10-9-01; 8:45 am]

BILLING CODE 3510-DS-P